NUCLEAR REGULATORY COMMISSION

[NRC-2025-0038]

Information Collection: NRC Form 646, Formal Discrimination Complaint and NRC Form 655, EEO Counselor's Report

AGENCY: Nuclear Regulatory Commission.

ACTION: Renewal of existing information collection; request for comment.

SUMMARY: The U.S. Nuclear Regulatory Commission (NRC) invites public comment on the renewal of Office of Management and Budget (OMB) approval for an existing collection of information. The information collection is entitled, NRC Form 646, “Formal Discrimination Complaint” and NRC Form 655, “EEO Counselor's Report.”

DATES: Submit comments by November 3, 2025. Comments received after this date will be considered if it is practical to do so, but the Commission is able to ensure consideration only for comments received on or before this date.

ADDRESSES: You may submit comments by any of the following methods; however, the NRC encourages electronic comment submission through the Federal rulemaking website:

• Federal Rulemaking Website: Go to https://www.regulations.gov and search for Docket ID NRC-2025-0038. Address questions about Docket IDs in Regulations.gov to Bridget Curran; telephone: 301-415-1003; email: Bridget.Curran@nrc.gov. For technical questions, contact the individual(s) listed in the For Further Information Contact section of this document.

• Mail comments to: David Cullison, Office of the Chief Information Officer, Mail Stop: T-6 A10M, U.S. Nuclear Regulatory Commission, Washington, DC 20555-0001.

For additional direction on obtaining information and submitting comments, see “Obtaining Information and Submitting Comments” in the SUPPLEMENTARY INFORMATION section of this document.

FOR FURTHER INFORMATION CONTACT: David Cullison, Office of the Chief Information Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2025-0038 when contacting the NRC about the availability of information for this action. You may obtain publicly available information related to this action by any of the following methods:

• Federal Rulemaking website: Go to https://www.regulations.gov and search for Docket ID NRC-2025-0038. A copy of the collection of information and related instructions may be obtained without charge by accessing Docket ID NRC-2025-0038 on this website.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. A copy of the collection of information and related instructions may be obtained without charge by accessing ADAMS Accession No. ML25182A355 and ML25182A376. The supporting statements, NRC Form 646, “Formal Discrimination Complaint” and NRC 655, “EEO Counselor's Report,” are available in ADAMS under Accession Nos. ML25181A458 and ML25181A456, respectively.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Clearance Officer: A copy of the collection of information and related instructions may be obtained without charge by contacting the NRC's Clearance Officer, David Cullison, Office of the Chief Information Officer, U.S. Nuclear Regulatory Commission, Washington, DC 20555-0001; telephone: 301-415-2084 email: Infocollects.Resource@nrc.gov.

B. Submitting Comments

The NRC encourages electronic comment submission through the Federal rulemaking website (https://www.regulations.gov). Please include Docket ID NRC-2025-0038, in your comment submission.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the NRC, then you should inform those persons not to include identifying or contact information that they do not want to be publicly disclosed in their comment submission. Your request should state that comment submissions are not routinely edited to remove such information before making the comment submissions available to the public or entering the comment into ADAMS.

II. Background

In accordance with the Paperwork Reduction Act of 1995 (44 U.S.C. Chapter 35), the NRC is requesting public comment on its intention to request the OMB's approval for the information collection summarized as follows.

1. The title of the information collection: NRC Form 646, “Formal Discrimination Complaint” and NRC Form 655, “EEO Counselor's Report.”

2. OMB approval number: 3150-0255 and 3150-0256.

3. Type of submission: Extension.

4. The form number, if applicable: NRC Forms 646 and 655.

5. How often is the collection required or requested: On occasion.

6. Who will be required or asked to respond: NRC Form 646: Employees, former employees, or applicants for employment with the NRC, who believe that they have been subjected to discrimination based on race, color, national origin, religion, sex, age, disability, or reprisal. NRC Form 655: Aggrieved persons who believe they have been discriminated against in employment on the basis of race, color, religion, sex, national origin, age, disability, or genetic information.

7. The estimated number of annual responses: NRC Form 646: 30; NRC Form 655: 30.

8. The estimated number of annual respondents: NRC Form 646: 30; NRC Form 655: 30.

9. The estimated number of hours needed annually to comply with the information collection requirement or request: NRC Form 646: 30; NRC Form 655: 30.

10. Abstract: As set forth under 29 CFR 1614, the Equal Employment Opportunity (EEO) complaint process prescribes that when an aggrieved individual believes that they have been discriminated against on the basis of their race, color, religion, sex (including pregnancy), national origin, age, disability, genetic information (including family medical history), marital status, parental status, political affiliation, military service, and reprisal and seeks EEO counseling, the assigned EEO Counselor will conduct the pre-complaint (Informal) with the intentions of resolving the complaint within the Agency. At the conclusion of pre-complaint (Informal) process and if resolution was unsuccessful, the EEO Counselor during the final interview with the aggrieved person must discuss what occurred during the counseling process and provide the aggrieved with information to move the matter forward. Pursuant to 29 CFR 1614.105(c), if the aggrieved individual decides to file a Formal complaint (i.e., NRC Form 646), the EEO Counselor must submit a written report (i.e., NRC Form 655, “EEO Counselor's Report”) within fifteen (15) calendar days to the Office of Small Business and Civil Right Director or designated official that will contain relevant information about the aggrieved individual, jurisdiction, claims, bases, Responding Management Officials, witnesses, requested remedies, and the EEO Counselor's checklist. The NRC Form 655, “EEO Counselor's Report” is completed by an EEO counselor during this consultation, which must be conducted within 45 days of the date of the matter alleged to be discriminatory or, in the case of personnel action, within 45 days of the effective date of the action. Once the form is completed, an authorized NRC representative will place the completed NRC Form 646 in a secure folder created specifically for the aggrieved individual within an automated tracking system.

III. Specific Requests for Comments

The NRC is seeking comments that address the following questions:

1. Is the proposed collection of information necessary for the NRC to properly perform its functions? Does the information have practical utility? Please explain your answer.

2. Is the estimate of the burden of the information collection accurate? Please explain your answer.

3. Is there a way to enhance the quality, utility, and clarity of the information to be collected?

4. How can the burden of the information collection on respondents be minimized, including the use of automated collection techniques or other forms of information technology?

Dated: August 29, 2025.
For the Nuclear Regulatory Commission.
David Cullison,
NRC Clearance Officer, Office of the Chief Information Officer.

[FR Doc. 2025-16879 Filed 9-2-25; 8:45 am]

BILLING CODE 7590-01-P